NUCLEAR REGULATORY COMMISSION

[Docket No. 50-00254; 50-00265; License Nos. DPR-29; DPR-30; EAF-RIII-2025-0074; NRC-2025-0577]

In the Matter of Quad Cities Nuclear Power Station, Units 1 and 2; Confirmatory Order Modifying License

AGENCY: Nuclear Regulatory Commission.

ACTION: Notice; issuance.

SUMMARY: The U.S. Nuclear Regulatory Commission (NRC) is issuing a Confirmatory Order to Quad Cities Nuclear Power Station, Units 1 and 2, to memorialize the agreement reached during an alternative dispute resolution mediation session held on June 17-18, 2025. The Confirmatory Order contains commitments made to resolve six apparent violations of NRC requirements relating to the Quad Cities Nuclear Power Station, Unit 1, reactor pressure vessel drain down event that occurred on March 28, 2023. The commitments include actions by Quad Cities Nuclear Power Station, Units 1 and 2, to enhance its corrective action program, employee training, and safety culture. The Confirmatory Order is effective upon issuance.

DATES: The Confirmatory Order was issued on July 16, 2025.

ADDRESSES: Please refer to Docket ID NRC-2025-0577 when contacting the NRC about the availability of information regarding this document. You may obtain publicly available information related to this document using any of the following methods:

• Federal Rulemaking website: Go to https://www.regulations.gov and search for Docket ID NRC-2025-0577. Address questions about Docket IDs in Regulations.gov to Bridget Curran; telephone: 301-415-1003; email: Bridget.Curran@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The Confirmatory Order Related to NRC Inspection Report No. 05000254/2024403 and Investigation Reports 3-2023-013 and 3-2023-0015 is available in ADAMS under Accession No. ML25175A334.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Diana Betancourt-Roldan, Region III, U.S. Nuclear Regulatory Commission, Washington, DC 20555-0001; telephone: 630-810-4373; email: Diana.Betancourt-Roldan@nrc.gov.

SUPPLEMENTARY INFORMATION: The text of the order is attached.

Dated: July 30, 2025.
For the Nuclear Regulatory Commission.
John Giessner,
Regional Administrator, Region III.

Attachment—In the Matter of Quad Cities Nuclear Power Station; Confirmatory Order Modifying License.

I

Constellation Energy Generation, LLC (Constellation) is the holder of renewed Operating Licenses Nos. DPR-29 and DPR-30, both issued on October 28, 2004, by the U.S. Nuclear Regulatory Commission (NRC or Commission) pursuant to Part 50 of Title 10 of the Code of Federal Regulations (10 CFR). The license authorizes the operation of Quad Cities Nuclear Power Station, Units 1 and 2 (Quad Cities or facility) in accordance with conditions specified therein. The facility is located on the Licensee's site in Cordova, Illinois.

This Confirmatory Order (CO) is the result of an agreement reached during an Alternative Dispute Resolution (ADR) mediation session conducted on June 17-18, 2025.

II

On May 6, 2025, the NRC issued Inspection Report 05000254/2024403 and Investigation Reports 3-2023-013 and 3-2023-0015 to Constellation, which documented the identification of six apparent violations that were being considered for escalated enforcement action in accordance with the NRC Enforcement Policy. On March 28, 2023, during a refueling outage at Quad Cities Unit 1, a reactor pressure vessel (RPV) valve mispositioning event occurred. The NRC learned of the event on April 5, 2023, and on August 18, 2023, the NRC's Office of Investigations (OI) opened an investigation (OI Case No. 3-2023-0013) to determine whether personnel acted deliberately to falsify evidence or to provide incomplete or inaccurate information concerning the event. On September 5, 2023, investigation No. 3-2023-0015 was initiated to determine whether a senior licensee manager deliberately entered incomplete and inaccurate information in the Corrective Action Program (CAP). Following the investigation, inspections were conducted between October 2024 and April 2025. Based on the evidence developed during its inspections and investigations, the NRC identified six apparent violations.

The apparent violations concerned:

1. Willful failure by a licensed reactor operator (RO) to implement procedure resulting in RPV drain down;

2. Willful failure to survey and decontaminate personnel sprayed with reactor coolant;

3. Willful failure by a licensed senior reactor operator (SRO) to maintain complete and accurate records related to RPV drain down event;

4. Failure to document the RPV drain down event in operating logs and CAP;

5. Failure to maintain complete and accurate operating logs associated with RPV drain time; and

6. Failure to administer fitness for duty and fatigue testing following an event.

By letter dated May 6, 2025, the NRC notified Constellation of the results of the investigation with an opportunity to: (1) attend a predecisional enforcement conference or (2) to participate in an ADR mediation session in an effort to resolve these concerns.

In response to the NRC's offer, Constellation requested the use of the NRC's ADR process to resolve differences it had with the NRC. On June 17 and 18, 2025, the NRC and Constellation met in an ADR session mediated by a professional mediator, arranged through Cornell University's Institute on Conflict Resolution. The ADR process is one in which a neutral mediator, with no decision-making authority, assists the parties in reaching an agreement on resolving any differences regarding the dispute. This Confirmatory Order is issued pursuant to the agreement reached during the ADR process.

III

During the ADR session, Constellation and the NRC reached an Agreement in Principle. The elements of the agreement include the following:

Pre-ADR Corrective Actions

Prior to the ADR session, Constellation completed the following corrective actions and enhancements to preclude recurrence of the apparent violations, including, but not limited to the following:

1. The Chief Nuclear Officer (CNO) and Senior Executives performed a fleetwide all-hands meeting (virtually) to communicate expectations regarding conduct, and regulatory requirements for maintaining complete and accurate documentation and communications. The discussion stressed the importance of procedural adherence, ensuring documents are complete and accurate, and potential consequences for engaging in willful violations. The meeting was recorded for backshift and provided through email and corporate communications.

2. Constellation conducted an internal investigation into employee misconduct in the Operations Department and took corrective actions in accordance with the Constellation Code of Business Conduct.

3. Quad Cities completed a root cause investigation of the valve mispositioning event. The root cause addressed the human performance tool, procedure use and adherence, communication, and pre-job brief gaps that led to the inadequate procedure execution by Operations. As part of the root cause, the station identified and implemented corrective actions to address gaps in performance.

4. Quad Cities Security management conducted site First Line Supervisor (FLS) and above discussion on the process for fitness for duty and fatigue testing following events.

Corrective Actions Agreed to in ADR Communications

1. Within 2 months of the date of this Confirmatory Order, each Constellation nuclear station and nuclear corporate organization will conduct a station-specific all hands meeting regarding Constellation's “Act with Integrity” campaign, reinforcing the requirement for compliance with regulatory standards, expectations, and policies mandating integrity and trustworthy behaviors. The meeting materials and meeting dates will be available to NRC upon request.

2. One-on-one meetings will be conducted from Constellation executives to senior managers, and from senior managers to site and corporate nuclear employees reinforcing the requirements and expectations for integrity, personal accountability, and behaviors that promote a strong safety culture. This will be completed at each Constellation nuclear site in the fleet and corporate nuclear locations. Each employee will attest to their understanding of these requirements and their commitment to uphold them either via a read-and-sign or manager documentation of attendance. Ninety-five percent of these meetings will be completed within 3 months of the date of this Confirmatory Order.

3. Within 6 months of the date of this Confirmatory Order, Constellation Corporate Security management will provide a communication to supervisors and managers at Constellation nuclear facilities discussing the requirements for, and processes associated with, post event and for-cause testing, as well as fatigue assessments. The communication materials will be available to NRC upon request.

4. Within 6 months of the effective date of this Confirmatory Order, Constellation will communicate to all Constellation site and corporate nuclear employees the willful violations and circumstances that gave rise to the Confirmatory Order. The communication will include applicable safety culture traits, integrity, ensuring documents are complete and accurate, and potential consequences for engaging in willful violations. The communication materials will be available to NRC upon request.

Evaluation

1. Within 6 months of the date of this Confirmatory Order, Constellation will complete a causal investigation of the Quad Cities Radiation Protection department's performance and behaviors during and immediately following the March 28, 2023, event. The NRC will be provided the causal investigation and proposed corrective actions upon Quad Cities Management Review Committee approval.

Training

1. Within 6 months of the date of this Confirmatory Order, Constellation will develop 10 CFR 50.5, 10 CFR 50.9, and Nuclear Safety Culture training for Constellation employees assigned to Quad Cities. The Nuclear Safety Culture training will be developed using the INPO 12-012 “Traits of a Healthy Nuclear Safety Culture.” Upon development, this training will be provided annually for at least 3 years. Except for Quad Cities licensed operators, this training may be computer-based or in-person. For Quad Cities licensed operators, this training will be in person, will include a case study of this event, and be performed annually during requalification cycles for a period of 3 years. At the end of 3 years, Constellation will determine whether to continue the training on an annual or some other basis, or to terminate the training. Each year, Quad Cities is expected to achieve a 100 percent completion rate for licensed operators and a 90 percent completion rate for all other Quad Cities employees.

2. Within 6 months of the date of this Confirmatory Order Quad Cities will conduct one-time Operations retraining for 100 percent of its qualified licensed and non-licensed operators on standards and expectations for Human Performance Tool usage which includes Procedure Use and Adherence, Questioning Attitude, and Communications.

3. Within 15 months of the date of this Confirmatory Order, Quad Cities will develop and conduct one time, in-person leadership safety culture training for at least 90 percent of First Line Supervisors and above. The training will include leadership and team behavior and how they impact a team's safety culture and effectiveness.

4. Within 9 months of the date of this Confirmatory Order, Quad Cities will conduct a performance analysis and develop/implement training related to the application of Technical Specification requirements for RPV Water Inventory Control. Training will be provided to all qualified licensed operators. Constellation will provide the dates of the training to the NRC with at least 1 month's advance notice so the NRC has the opportunity to attend.

Corrective Actions

1. Within 12 months of the date of this Confirmatory Order, Quad Cities will perform a Nuclear Safety Culture Assessment utilizing a third-party organization with expertise in safety culture. Constellation will propose the external organization selection to the NRC for review and approval. Constellation will provide the assessment plan to the NRC at least one week before the assessment commences. Results will be documented in CAP, with the site-specific action plans developed based on the results. Any deviations from the third-party recommendations shall be documented with justification.

2. Within 12 months of the date of this Confirmatory Order, except for Quad Cities, Constellation will conduct a nuclear fleetwide Nuclear Safety Culture Survey. This survey will be developed under consultation with the external organization selected in Corrective Action 1. Results will be documented in CAP, with site and corporate specific action plans developed based on the results to include additional assessments, as necessary. The survey instrument results, and actions will be available to the NRC for inspection.

3. Within 6 months of the date of this Confirmatory Order, Constellation will perform external benchmarking of nuclear licensees to identify and implement best practices related to safety culture programs.

4. Within 1 month of the date of this Confirmatory Order, Quad Cities will post signage at Radiologically Controlled Area (RCA) exit points detailing decontamination protocols.

5. Beginning with Quad Cities' first refueling outage after the effective date of the Confirmatory Order, Quad Cities will continuously station a qualified Constellation Senior Radiation Protection Technician (RPT) at both RCA exit points, when open, for 3 years.

6. Within 6 months of the date of this Confirmatory Order, Quad Cities will perform oral boards and leadership assessments of all Radiation Protection managers and supervisors. The oral boards will be performed by Constellation corporate radiation protection managers and include actions required for contamination events, roles and responsibilities, and the expected behaviors of nuclear professionals when they encounter unexpected or undesirable conditions. Leadership assessments will be performed by the Quad Cities Plant Manager or Radiation Protection Manager and will be designed to identify gaps in individual competencies and behaviors that will be documented and addressed by Constellation Individual Development Plans.

7. Quad Cities will implement additional Operations and Radiation Protection (RP) documentation reviews for 2 years following the date of the Confirmatory Order:

a. Within 2 months of the date of this Confirmatory Order, Quad Cities senior managers will implement periodic reviews (i.e., at least once per quarter) of a sample of completed shift Operating and RP logs. The purpose is to review Logs for completeness and accuracy. These reviews will be documented.

b. Within 2 months of the date of this Confirmatory Order, Quad Cities senior managers will implement periodic reviews (i.e., at least once per quarter) of a sample of completed non-surveillance procedures. The purpose is to review the implementation of the non-surveillance procedures for completeness and accuracy. These reviews will be documented.

c. A minimum of five documentation reviews will be completed every quarter including outage sampling, when possible.

8. Within 12 months of the date of this Confirmatory Order, Constellation will develop a presentation to be delivered to an appropriate industry forum.

a. Constellation will propose two forums to be agreed upon with the NRC.

b. This presentation will include the significance of the incident that formed the basis for the willful violations, the consequences of the actions, the responsibilities of personnel involved, and the completed and planned corrective actions.

c. Constellation will provide its proposed presentation to the NRC for its review. The NRC will communicate to Constellation any concerns regarding the presentation within 30 days of submittal.

d. Within 18 months of the issuance date of this Confirmatory Order, Constellation shall request agenda time to deliver the presentation developed above to the agreed upon industry forums.

Administrative Items

1. Within one year of the completion of the last commitment identified in the Confirmatory Order (other than this provision), Constellation will perform an effectiveness review of the corrective actions taken at Quad Cities. Before performing this effectiveness review, Constellation will establish the specific criteria it will use in the review and provide to the NRC.

2. The materials set forth in this order will be retained for 18 months after completion of the effectiveness review.

3. In exchange for the commitments and corrective actions agreed by Constellation:

a. The NRC agrees not to pursue any further enforcement action in connection with the March 28, 2023, event as described in the NRC's May 6, 2025, inspection and investigation report to Constellation.

b. The NRC agrees not to issue a civil penalty for the apparent violations identified in the NRC's May 6, 2025, inspection and investigation report to Constellation.

4. The NRC is documenting the Significance Determination Process results associated with the Reactor Oversight Process findings associated with the March 28, 2023, event in the NRC public Agencywide Documents Access and Management System.

5. This agreement is binding upon all successors and assigns of Constellation.

On July 14, 2025, Constellation consented to issuing this Confirmatory Order with the commitments, as described in Section V below. Constellation further agreed that this Confirmatory Order is to be effective upon issuance, the agreement memorialized in this Confirmatory Order settles the matter between the parties, and that Constellation has waived its right to a hearing.

IV

I find that Constellation's actions, once completed, as described in Section III above, combined with the commitments as set forth in Section V are acceptable and necessary, and I conclude that with these commitments the public health and safety are reasonably assured. In view of the foregoing, I have determined that public health and safety require that Constellation's commitments be confirmed by this Confirmatory Order. Based on the above and Constellation's consent, this Confirmatory Order is effective upon issuance.

One year after the issuance of the Order and yearly thereafter until completion of the commitments specified in Section V, Constellation is required to notify the NRC in writing and summarize its actions.

V

Accordingly, pursuant to Sections 104b, 161b, 161i, 161o, 182 and 186 of the Atomic Energy Act of 1954, as amended, and the Commission's regulations in 10 CFR 2.202 and 10 CFR part 20, 26,50, and 55, it is hereby ordered, effective upon issuance, that License No. DPR-29 and DPR-30 are modified as follows:

A. Communications

1. Within 2 months of the date of this Confirmatory Order, each Constellation nuclear station and nuclear corporate organization will conduct a station-specific all hands meeting regarding Constellation's “Act with Integrity” campaign, reinforcing the requirement for compliance with regulatory standards, expectations, and policies mandating integrity and trustworthy behaviors. The meeting materials and meeting dates will be available to NRC upon request.

2. One-on-one meetings will be conducted from Constellation executives to senior managers, and from senior managers to site and corporate nuclear employees reinforcing the requirements and expectations for integrity, personal accountability, and behaviors that promote a strong safety culture. This will be completed at each Constellation nuclear site in the fleet and corporate nuclear locations. Each employee will attest to their understanding of these requirements and their commitment to uphold them either via a read-and-sign or manager documentation of attendance. Ninety-five percent of these meetings will be completed within 3 months of the date of this Confirmatory Order.

3. Within 6 months of the date of this Confirmatory Order, Constellation Corporate Security management will provide a communication to supervisors and managers at Constellation nuclear facilities discussing the requirements for, and processes associated with, post event and for-cause testing, as well as fatigue assessments. The communication materials will be available to NRC upon request.

4. Within 6 months of the effective date of this Confirmatory Order, Constellation will communicate to all Constellation nuclear station site employees and corporate nuclear employees the willful violations and circumstances that gave rise to the Confirmatory Order. The communication will include applicable safety culture traits, integrity, ensuring documents are complete and accurate, and potential consequences for engaging in willful violations. The communication materials will be available to NRC upon request.

B. Evaluation

1. Within 6 months of the date of this Confirmatory Order, Constellation will complete a causal investigation of the Quad Cities RP department's performance and behaviors during and immediately following the March 28, 2023, event. The NRC will be provided the causal investigation and proposed corrective actions upon Quad Cities Management Review Committee approval.

C. Training

1. Within 6 months of the date of this Confirmatory Order, Constellation will develop 10 CFR 50.5, 10 CFR 50.9, and Nuclear Safety Culture training for Constellation employees assigned to Quad Cities, Units 1 and 2. The Nuclear Safety Culture training will be developed using the INPO 12-012 “Traits of a Healthy Nuclear Safety Culture.” Upon development, this training will be provided annually for at least 3 years. Except for Quad Cities licensed operators, this training may be computer-based or in-person. For Quad Cities licensed operators, this training will be in person, will include a case study of this event, and will be performed annually during requalification cycles for a period of 3 years. At the end of 3 years, Constellation will determine whether to continue the training on an annual or some other basis, or to terminate the training. Each year, Quad Cities is expected to achieve a 100 percent completion rate for licensed operators and a 90 percent completion rate for all other Quad Cities employees.

2. Within 6 months of the date of this Confirmatory Order Constellation will conduct one-time Operations retraining for 100 percent of its qualified license and non-licensed operators at Quad Cities Units 1 and 2 on standards and expectations for Human Performance Tool usage, which includes Procedure Use and Adherence, Questioning Attitude, and Communications.

3. Within 9 months of the date of this Confirmatory Order, Constellation will conduct a performance analysis and develop and implement training at Quad Cities related to the application of Technical Specification requirements for RPV Water Inventory Control. Training will be provided to all qualified licensed operators. Constellation will provide the dates of the training to the NRC with at least 1 month's advance notice so the NRC has the opportunity to attend.

4. Within 15 months of the date of this Confirmatory Order, Constellation will develop and conduct at Quad Cities one time, in-person leadership safety culture training for at least 90 percent of First Line Supervisors and above. The training will include leadership and team behavior and how they impact a team's safety culture and effectiveness.

D. Corrective Actions

1. Within 1 month of the date of this Confirmatory Order, Quad Cities (Units 1 and 2) will post signage at Radiologically Controlled Area (RCA) exit points detailing decontamination protocols.

2. Within 6 months of the date of this Confirmatory Order, Quad Cities (Units 1 and 2) will perform external benchmarking of nuclear licensees to identify and implement best practices related to safety culture programs.

3. Within 6 months of the date of this Confirmatory Order, Quad Cities will perform oral boards and leadership assessments of all RP managers and supervisors. The oral boards will be performed by Constellation corporate RP managers and include actions required for contamination events, roles and responsibilities, and the expected behaviors of nuclear professionals when they encounter unexpected or undesirable conditions. Leadership assessments will be performed by the Quad Cities Plant Manager or Radiation Protection Manager and will be designed to identify gaps in individual competencies and behaviors that will be documented and addressed by Constellation Individual Development Plans.

4. Within 12 months of the date of this Confirmatory Order, Constellation will perform at Quad Cities (Units 1 and 2) a Nuclear Safety Culture Assessment utilizing a third-party organization with expertise in safety culture. Constellation will propose the external organization selection to the NRC for review and approval. Constellation will provide the third-party organization assessment plan to the NRC at least one week before the assessment commences. Results will be documented in CAP, with the site-specific action plans developed based on the results. Any deviations from the third-party recommendations shall be documented with justification.

5. Within 12 months of the date of this Confirmatory Order, except for Quad Cities, Constellation will conduct a nuclear fleetwide Nuclear Safety Culture Survey. This survey will be developed under consultation with the external organization selected in Corrective Action V.D.4. Results will be documented in CAP, with site and corporate-specific action plans developed based on the results to include additional assessments, as necessary. The survey instrument results and actions will be available to the NRC for inspection.

6. Within 12 months of the date of this Confirmatory Order, Constellation will develop a presentation to be delivered to an appropriate industry forum.

a. Constellation will propose two forums to be agreed upon with the NRC.

b. This presentation will include the significance of the incident that formed the basis for the willful violations, the consequences of the actions, the responsibilities of personnel involved, and the completed and planned corrective actions.

c. Constellation will provide its proposed presentation to the NRC for its review. The NRC will communicate to Constellation any concerns regarding the presentation within 30 days of submittal.

d. Within 18 months of the issuance date of this Confirmatory order, Constellation shall request agenda time to deliver the presentation developed above to the agreed upon industry forums.

7. Beginning with Quad Cities' (Unit 1 or 2) first refueling outage after the effective date of this Confirmatory Order, Quad Cities will continuously station a qualified Constellation Senior Radiation Protection Technician (RPT) at both RCA exit points, when open during outages, for 3 years following the date of the first refueling outage.

8. Quad Cities will implement additional Operations and RP documentation reviews for 2 years following the date of the Confirmatory Order:

a. Within 2 months of the date of this Confirmatory Order, Quad Cities senior managers will implement periodic reviews (i.e., at least once per quarter) of a sample of completed shift Operating and RP logs. The purpose is to review logs for completeness and accuracy. These reviews will be documented.

b. Within 2 months of the date of this Confirmatory Order, Quad Cities senior managers will implement periodic reviews (i.e., at least once per quarter) of a sample of completed non-surveillance procedures. The purpose is to review the implementation of the non-surveillance procedures for completeness and accuracy. These reviews will be documented.

c. A minimum of five documentation reviews will be completed every quarter including outage sampling, when possible.

E. Constellation Administrative Items

1. Within 1 year of the completion of the last commitment identified in sections V A-D above, Constellation will perform an effectiveness review of the corrective actions taken at Quad Cities. Before performing this effectiveness review, Constellation will establish the specific criteria it will use in the review and provide the criteria to the NRC.

2. The materials and documentation used to complete the commitments set forth in this order will be retained for 18 months after completion of the effectiveness review.

F. Agency Administrative Item

1. The NRC is documenting the Significance Determination Process results associated with the Reactor Oversight Process findings associated with the March 28, 2023, event in the NRC public Agencywide Documents Access and Management System (ADAMS).

G. Agreement by Agency

Based on the commitments and completed corrective actions described in Section III above:

1. The NRC agrees not to pursue any further enforcement action based on the apparent violations identified in the NRC's May 6, 2025, inspection and investigation report to Constellation.

2. The NRC agrees not to issue a civil penalty for the apparent violations identified in the May 6, 2025, inspection and investigation report to Constellation.

On July 14, 2025, Constellation consented to issuing this Confirmatory Order with the commitments described herein. Constellation further agreed that this Confirmatory Order is to be effective upon issuance, the agreement memorialized in this Confirmatory Order settles the matter between the parties, and that Constellation has waived its right to a hearing.

This agreement is binding upon successors and assigns of Constellation Energy Generation, LLC. The Regional Administrator, Region III may, in writing, relax or rescind any of the above conditions upon demonstration by Constellation or its successors of good cause.

VI

In accordance with 10 CFR 2.202 and 10 CFR 2.309, any person adversely affected by this Confirmatory Order, other than Constellation, may request a hearing within thirty (30) calendar days of the date of issuance of this Confirmatory Order. Where good cause is shown, consideration will be given to extending the time to request a hearing. A request for extension of time must be made in writing to the Director, Office of Enforcement, U.S. Nuclear Regulatory Commission, Washington, DC 20555, and include a statement of good cause for the extension.

All documents filed in NRC adjudicatory proceedings, including documents filed by an interested State, local governmental body, Federally recognized Indian Tribe, or designated agency thereof that requests to participate under 10 CFR 2.315(c), must be filed in accordance with 10 CFR 2.302. The E-Filing process requires participants to submit and serve all adjudicatory documents over the internet, or in some cases to mail copies on electronic storage media. Participants may not submit paper copies of their filings unless they seek an exemption in accordance with the procedures described below. Detailed guidance on making electronic submissions may be found in the Guidance for Electronic Submissions to the NRC and on the NRC website at https://www.nrc.gov/site-help/e-submittals.html.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public website at https://www.nrc.gov/site-help/e-submittals/getting-started.html. Once a participant has obtained a digital ID certificate and a docket has been created, the participant can then submit adjudicatory documents. Submissions must be in Portable Document Format (PDF). Additional guidance on PDF submissions is available on the NRC's public website at https://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., Eastern Time, Monday through Friday, excluding federal holidays.

Participants who believe that they have a good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click “cancel” when the link requests certificates and you will be automatically directed to the NRC's electronic hearing dockets where you will be able to access any publicly available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

The Commission will issue a notice or order granting or denying a hearing request or intervention petition, designating the issues for any hearing that will be held and designating the Presiding Officer. A notice granting a hearing will be published in the Federal Register and served on the parties to the hearing.

If a person other than Constellation requests a hearing, that person shall set forth with particularity the manner in which his interest is adversely affected by this Confirmatory Order and shall address the criteria set forth in 10 CFR 2.309(d) and (f).

If a hearing is requested by a person whose interest is adversely affected, the Commission will issue an order designating the time and place of any hearings. If a hearing is held, the issue to be considered at such hearing shall be whether this Confirmatory Order should be sustained.

In the absence of any request for hearing, or written approval of an extension of time in which to request a hearing, the provisions specified in Section V above shall be final 30 days from the date of this Confirmatory Order without further order or proceedings. If an extension of time for requesting a hearing has been approved, the provisions specified in Section V shall be final when the extension expires if a hearing request has not been received.

For the Nuclear Regulatory Commission.

/RA/

John B. Giessner,

Regional Administrator, NRC Region III.

Dated this 16th day of July 2025.

Attachments: As stated.

[FR Doc. 2025-14580 Filed 7-31-25; 8:45 am]

BILLING CODE 7590-01-P